ENVIRONMENTAL PROTECTION AGENCY

[EPA-HQ-OAR-2005-0121; FRL 9520-7]

Agency Information Collection Activities; Submission to OMB for Review and Approval; Comment Request; Exclusion Determinations for New Nonroad Spark-Ignited Engines, New Nonroad Compression-Ignited Engines, and New On-Road Heavy Duty Engines (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before August 20, 2012.

ADDRESSES: Submit your comments, referencing docket ID number EPA-HQ-OAR-2005-0121, to (1) EPA online using www.regulations.gov (our preferred method), by email to a-and-r-Docket@epa.gov, or by mail to EPA Docket Center, Environmental Protection Agency, Air and Radiation Docket Center (mailcode 28221T), 1200 Pennsylvania Ave. NW., Washington, DC 20460 and (2) OMB by mail to: Office of Information and Regulatory Affairs, Office of Management and Budget (OMB), Attention: Desk Officer for EPA, 725 17th Street NW., Washington, DC 20503.

FOR FURTHER INFORMATION CONTACT: Nydia Yanira Reyes-Morales, Environmental Protection Agency, 1200 Pennsylvania Avenue, Mail Code 6403J NW., Washington, DC 20460; telephone number: 202-343-9264; fax number: 202-343-2804; email address: reyes-morales.nydia@epa.gov.

SUPPLEMENTARY INFORMATION: EPA has submitted the following ICR to OMB for review and approval according to the procedures prescribed in 5 CFR 1320.12. On March 28, 2012 (77 FR 18803), EPA sought comments on this ICR pursuant to 5 CFR 1320.8(d). EPA received no comments during the comment period. Any additional comments on this ICR should be submitted to EPA and OMB within 30 days of this notice.

EPA has established a public docket for this ICR under Docket ID No. EPA-HQ-OAR-2005-0121, which is available for online viewing at www.regulations.gov, or in person viewing at the Air Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is 202-566-1744, and the telephone number for the Air Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Exclusion Determinations for New Nonroad Spark-ignited Engines, New Nonroad Compression-ignited Engines, and New On-road Heavy Duty Engines (Renewal).

ICR numbers: EPA ICR No. 1852.05, OMB Control No. 2060-0395.

ICR Status: This ICR is scheduled to expire on July 31, 2012. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Under the provisions of the Clean Air Act (CAA), the Administrator is required to promulgate regulations to control air pollutant emissions from motor vehicles and nonroad engines, as defined in the CAA. Motor vehicles and non-road engines not meeting the applicable definitions are excluded from compliance with current regulations. A manufacturer may make an exclusion determination by itself; however, manufacturers and importers may request EPA to make such determination to ensure that their determination does not differ from the Agency's. To request an exclusion determination, manufacturers submit a letter with a description of the engine and/or vehicle (engine type, horsepower rating, intended usage, etc.) and sales brochures or pictures. The request must be submitted to either the Gasoline Engine Compliance Center (GECC) or the Diesel Engine Compliance Center (DECC). Both Centers are part of Compliance Division, Office of Transportation and Air Quality. GECC and DECC use this information to determine whether the engine or vehicle is excluded from compliance with one or more emission regulations. GECC and DECC then store the data in its internal files, and make it available to the public upon request under the Freedom of Information Act.

Burden Statement: The annual public reporting and recordkeeping burden for this collection of information is estimated to average 6 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: manufacturers of new nonroad spark-ignited engines, new nonroad compression-ignited engines, and new on-road heavy duty engines.

Estimated Number of Respondents: 2.

Frequency of Response: On occasion.

Estimated Total Annual Hour Burden: 11.

Estimated Total Annual Cost: $1,040 includes $11 in annualized capital or O&M costs. Changes in the Estimates: There is a decrease of 58 hours in the total estimated burden currently identified in the OMB Inventory of Approved ICR Burdens. This decrease is due to a lower estimated number of respondents.

John Moses,
Director, Collection Strategies Division.

[FR Doc. 2012-17745 Filed 7-19-12; 8:45 am]

BILLING CODE 6560-50-P